Title 3—

The President

Executive Order 14070 of April 5, 2022

Continuing To Strengthen Americans' Access to Affordable, Quality Health Coverage

By the authority vested in me as President by the Constitution and the laws of the United States of America, it is hereby ordered as follows:

Section 1. Policy. On January 28, 2021, I signed Executive Order 14009 (Strengthening Medicaid and the Affordable Care Act), establishing that it is the policy of my Administration to protect and strengthen Medicaid and the Affordable Care Act (ACA) and to make high-quality healthcare accessible and affordable for every American. It directs executive departments and agencies (agencies) with authorities and responsibilities related to Medicaid and the ACA to review existing regulations, orders, guidance documents, policies, and any other similar agency actions (collectively, agency actions) to determine whether such agency actions are inconsistent with this policy.

Consistent with Executive Order 14009, agencies have taken numerous actions to protect and strengthen Medicaid and the ACA, including:

(a) facilitating the expansion of Medicaid in Missouri and Oklahoma to individuals below 138 percent of the Federal poverty level, which is projected to cover nearly half a million people;

(b) extending Medicaid eligibility to new populations in order to allow pregnant individuals to retain their Medicaid coverage for up to 1 year postpartum, including through initiatives in Illinois, New Jersey, Virginia, and Louisiana;

(c) operating a Special Enrollment Period during 2021 that allowed 2.8 million Americans to newly enroll in coverage under the ACA;

(d) extending the length of the HealthCare.gov Open Enrollment Period by 1 month and operating the most successful Open Enrollment Period ever, with a historic 14.5 million Americans enrolling in coverage through the ACA Marketplaces and an additional 1 million people enrolling in Basic Health Program coverage, resulting in a 20 percent increase over the prior year across both programs combined;

(e) increasing outreach and enrollment funding for organizations that help Americans apply for ACA and Medicaid coverage, including quadrupling the number of trained Navigators to more than 1,500 people in States using HealthCare.gov;

(f) lowering maximum out-of-pocket costs for consumers with employer and ACA coverage by $400 in 2022;

(g) reducing paperwork burdens for people enrolling in Medicaid and the ACA by eliminating unnecessary documentation requirements;

(h) allowing low-income Americans to enroll in affordable ACA coverage year-round;

(i) strengthening Medicaid and ACA section 1332 waiver policies to partner with States to develop innovative coverage options, strengthen benefits, and lower costs;

(j) proposing rules that would better ensure comprehensive and standardized coverage and improve the adequacy of ACA provider networks; and

(k) making efforts to improve the affordability of ACA coverage for families by proposing rules to correct a regulatory gap that prevents family members from accessing ACA subsidies despite very high premiums for coverage through an employer.

On March 11, 2021, I signed into law the American Rescue Plan Act of 2021 (Public Law 117-2), which will further strengthen Medicaid and the ACA in numerous ways, including by making ACA coverage more affordable for 9 million Americans through enhanced ACA subsidies, incentivizing States to adopt the ACA's Medicaid expansion, making it easier for States to extend postpartum Medicaid coverage, establishing new options for States to establish mobile crisis intervention services teams to help provide services to Medicaid beneficiaries experiencing a behavioral health crisis, and increasing Medicaid funding for home- and community-based services to strengthen and expand access to services for millions of seniors and people with disabilities who need care as well as to help States strengthen their programs.

My Administration has made significant progress in making healthcare more affordable and accessible to millions of Americans. From the end of 2020 to September 2021, one in seven uninsured Americans gained coverage, leaving the uninsured rate at nearly an all-time low. Despite this progress, nearly 4 million Americans continue to be locked out of Medicaid expansion because they reside in 1 of the 12 States that have failed to adopt the ACA's Medicaid expansion. In addition, millions more continue to struggle to obtain the care they need, to go without health coverage, or to be enrolled in coverage that is insufficient to meet their needs. The effects of being uninsured or underinsured can be devastating financially, as families without access to affordable coverage may accrue high levels of medical debt.

It remains the policy of my Administration to protect and strengthen Medicaid and the ACA and to make high-quality healthcare accessible and affordable for every American. Agencies with authorities and responsibilities related to Medicaid and the ACA are continuing their review of existing agency actions under Executive Order 14009.

Sec. 2. Agency Responsibilities. In addition to taking the actions directed pursuant to Executive Order 14009, agencies (as described in section 3502(1) of title 44, United States Code, except for the agencies described in section 3502(5) of title 44, United States Code) with responsibilities related to Americans' access to health coverage shall review agency actions to identify ways to continue to expand the availability of affordable health coverage, to improve the quality of coverage, to strengthen benefits, and to help more Americans enroll in quality health coverage. As part of this review, the heads of such agencies shall examine the following:

(a) policies or practices that make it easier for all consumers to enroll in and retain coverage, understand their coverage options, and select appropriate coverage;

(b) policies or practices that strengthen benefits and improve access to healthcare providers;

(c) policies or practices that improve the comprehensiveness of coverage and protect consumers from low-quality coverage;

(d) policies or practices that expand eligibility and lower costs for coverage in the ACA Marketplaces, Medicaid, Medicare, and other programs;

(e) policies or practices that help improve linkages between the healthcare system and other stakeholders to address health-related needs; and

(f) policies or practices that help reduce the burden of medical debt on households.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 5, 2022.

[FR Doc. 2022-07716

Filed 4-7-22; 8:45 am]

Billing code 3395-F2-P